GENERAL SERVICES ADMINISTRATION

[GSA Bulletin FTR 26]

Federal Travel Regulation; eTravel Initiative

AGENCY: Office of Governmentwide Policy (MTT), GSA.

ACTION: Notice of a bulletin.

SUMMARY: The attached bulletin informs Federal agencies of the creation of the eTravel Initiative and of the intent to require agency use of the governmentwide, web-based, end-to-end travel management system.

EFFECTIVE DATE: This bulletin is effective June 18, 2002.

FOR FURTHER INFORMATION CONTACT: Tim Burke, General Services Administration, Office of Governmentwide Policy (MTT), Washington, DC 20405; e-mail, timothy.burke@gsa.gov; telephone (703) 872-8611.

SUPPLEMENTARY INFORMATION: The eTravel Initiative was born out of a Bush Administration governmentwide task force that was established to address performance gaps in existing Government systems as they relate to E-Government. The eTravel Initiative will establish a single portal by December 2003 that Federal employees making official business trips will use to obtain travel authorizations, make reservations and pay for airline tickets and other expenses. The system will work much like commercial web-based systems that the public uses to book business travel.

Dated: June 18, 2002.
G. Martin Wagner,
Associate Administrator, Office of Governmentwide Policy.

Attachment

Attachment

June 18, 2002

[GSA Bulletin FTR 26]

TO: Heads of Federal Agencies

SUBJECT: eTravel Initiative

1. Purpose. This bulletin notifies Federal agencies of the creation of the eTravel Initiative, a governmentwide, web-based, end-to-end travel management system. It is the intent of the General Services Administration to require agency use of the system.

2. Background. The eTravel initiative was born out of the governmentwide task force known as Quicksilver, that was established to address performance gaps in existing Government systems as they relate to E-Government, a key component of the President's Management Agenda.

3. eTravel Objective. To automate and consolidate the Federal Government's travel process through a self-service, web-based environment, offering end-to-end travel services from planning, authorization and reservation, through claims and voucher reconciliation. eTravel will eliminate the need for hardcopy travel documentation that is currently used at many agencies. It will re-engineer the entire travel process to realize significant cost savings, to improve employee productivity and to provide a unified, simplified official travel process. The eTravel system will be available by the end of 2003.

4. Government Interest. eTravel is in the best interest of the Government because it will produce:

a. A governmentwide, web-based, end-to-end travel management service;

b. A cost model that reduces capital investment and lowers the travel transaction cost for the Government; and

c. A policy environment based on the use of best travel management practices.

5. Agency Planning. Agencies will be required to use the new eTravel system. Therefore, any present effort to re-engineer agency travel processes should be geared for maximum flexibility, so that any new systems or processes will be adaptable to the new eTravel system. Agencies are cautioned against investment in new systems that will be agency-specific and non-transferable to the eTravel system.

6. Point of Contact. Tim Burke, Director, Travel Management Policy Division (MTT), Office of Governmentwide Policy, General Services Administration, Washington, DC 20405; telephone 703-872-8611; e-mail, timothy.burke@gsa.gov.

7. Expiration Date. This bulletin expires when the FTR (41 CFR 300-304) is revised to incorporate the specific modules of the Government eTravel management system.

[FR Doc. 02-18880 Filed 7-24-02; 8:45 am]

BILLING CODE 6820-14-P